DEPARTMENT OF COMMERCE

National Oceanic and Atmospheric Administration

RTID 0648-XF504

North Pacific Albacore United States Stakeholder Meeting; Meeting Announcement

AGENCY: National Marine Fisheries Service (NMFS), National Oceanic and Atmospheric Administration (NOAA), Commerce.

ACTION: Notice of public meeting.

SUMMARY: NMFS announces a U.S. stakeholder meeting to discuss North Pacific albacore (NPALB) management. This meeting is intended to gather stakeholder input and prepare for potential discussions at the 2026 annual meetings of the Inter-American Tropical Tuna Commission (IATTC) and Western and Central Pacific Fisheries Commission Northern Committee (WCPFC NC) related to management of NPALB fisheries. The meeting topics are described under the SUPPLEMENTARY INFORMATION section of this notice.

DATES: The virtual meeting will be held on February 18, 2026, from 1 p.m. to 5 p.m. PST (11 a.m. to 3 p.m. HST). You must complete the registration process by February 11, 2026, if you plan to attend the meeting (see ADDRESSES).

ADDRESSES: If you plan to attend the meeting, which will be held by webinar, please register at https://forms.gle/uSeePzqNHLGm5wC5A. Instructions for attending the meeting will be emailed to meeting participants before the meeting occurs.

FOR FURTHER INFORMATION CONTACT: Valerie Post, Pacific Islands Regional Office at valerie.post@noaa.gov; 1-323-372-2946 or Tyler Lawson, West Coast Region Office at tyler.lawson@noaa.gov; 1-503-230-5421.

SUPPLEMENTARY INFORMATION: In 2025, the WCPFC NC requested the International Scientific Committee on Tuna and Tuna-like Species in the North Pacific Ocean (ISC) to provide estimates of the historical impact of each fleet group on the NPALB stock to guide discussions on potential fleet-specific reductions if stock biomass were to fall below the threshold reference point as mandated by the harvest strategy. This stakeholder meeting is intended to discuss this topic, gather stakeholder input, and prepare for anticipated discussions at the IATTC and WCPFC NC in 2026. For more information on the ISC's recommendations related to fishing intensity, please see the ISC25 Plenary Report: https://isc.fra.go.jp/pdf/ISC25/ISC25_Plenary_Report_FINAL.pdf. For the most recent NPALB catch statistics please see the ISC25 Annual Catch Table: https://isc.fra.go.jp/pdf/ISC25/ISC25_Catchtable_202509.xlsx. For updated information on NPALB fishing effort please see: https://meetings.wcpfc.int/node/26174.

NPALB U.S. Stakeholder Meeting Topics

The meeting agenda will be distributed to participants in advance of the meeting. The meeting agenda will include a discussion on translating fishing intensity into catch and/or effort limits for NPALB. Additionally, a timeline of important events leading up to the 2026 meeting of the WCPFC NC will be discussed. NMFS envisions holding a 2nd stakeholder webinar in mid to late May after the executive summary of the 2026 NPALB stock assessment has been released and the ISC has provided estimates of the historical impact of fleet groups. A brief update on electronic logbooks for hook and line gear will also be provided.

Special Accommodations

Requests for sign language interpretation or other auxiliary aids should be indicated when registering for the meeting (see ADDRESSES) by February 11, 2026.

Authority: 16 U.S.C. 951 et seq., 16 U.S.C. 1801 et seq., and 16 U.S.C. 6901 et seq.

Dated: January 30, 2026.
Kelly Denit,
Director, Office of Sustainable Fisheries, National Marine Fisheries Service.

[FR Doc. 2026-02207 Filed 2-3-26; 8:45 am]

BILLING CODE 3510-22-P